DEPARTMENT OF ENERGY

Federal Energy Regulatory Commission

[Project No. 4451-020]

Somersworth Hydro Company, Inc., City of Somersworth, Green Mountain Power Corporation; Notice of Application for Partial Transfer of License and Soliciting Comments, Motions To Intervene, and Protests

On February 27, 2017, Somersworth Hydro Company, Inc. and the City of Somersworth (transferors/co-licensees) and Green Mountain Power Corporation (transferee) filed an application for the transfer of license of the Lower Great Falls Project No. 4451. The project is located on the Salmon Falls River in Strafford County, New Hampshire and York County, Maine. The project does not occupy Federal lands.

The transferors and transferee seek Commission approval to partially transfer the license for the Lower Great Falls Project from the Somersworth Hydro Company, Inc. and the City of Somersworth as co-licensees to the City of Somersworth and Green Mountain Power Corporation as co-licensees.

Applicant's Contacts: For Transferors: Mr. Stephen Pike, Vice President, Operations, Somersworth Hydro Company, Inc. and the City of Somersworth, c/o Enel Green Power North America, Inc., 1 Tech Drive, Suite 220, Andover, MA 01810, Email: Stephen.Pike@enel.com; General Counsel, Enel Green Power North America, Inc., 1 Tech Drive, Suite 220, Andover, MA 01810.

For Transferee: Ms. Charlotte Ancel, Vice President, Power Supply & General Counsel, Green Mountain Power Corporation, 163 Acorn Lane, Colchester; VT 05446, email: Charlotte.Ancel@greenmountainpower.com; Ms. Elizabeth Kohler, Esq., Downs Rachlin Martin PLLC, 199 Main Street, P.O. Box 190, Burlington, VT 05402, email: EKohler@drm.com; and General Counsel, Enel Green Power North America, Inc., 1 Tech Drive, Suite 220, Andover, MA 01810, Email: generalcounsel@enel.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4451-020.

Dated: April 4, 2017.
Kimberly D. Bose,
Secretary.

[FR Doc. 2017-07087 Filed 4-7-17; 8:45 am]

BILLING CODE 6717-01-P